ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Monday, Tuesday, and Wednesday, September 10-12, 2001, at the times and location noted below.

DATES: The schedule of events is as follows:

Monday, September 10, 2001

1:30 p.m.-5:00 p.m.—Ad Hoc Committee—Passenger Vessels (Closed Meeting)

Tuesday, September 11, 2001

9:30 a.m.-Noon—Committee of the Whole—Americans with Disabilities Act/Architectural Barriers Act Final Rule (Closed Meeting)

1:30 p.m.-3:00 p.m.—Technical Programs Committee

Wednesday, September 12, 2001

9:00 a.m.-10:30 a.m.—Planning and Budget Committee

10:30 a.m.-Noon—Executive Committee

1:30 p.m.-3:00 p.m.—Board Meeting

ADDRESSES: The meetings will be held at the Washington Renaissance Hotel, 999 9th Street, NW., Washington, DC.

FOR FURTHER INFORMATION CONTACT: For further information regarding the meetings, please contact Lawrence W. Roffee, Executive Director, (202) 272-5434, extension 113 (voice) and (202) 272-5449 (TTY).

SUPPLEMENTARY INFORMATION: At the Board meeting, the Access Board will consider the following agenda items.

Open Meeting

• Executive Director's report.

• Approval of the minutes of the March 7, and May 9, 2001 board meetings.

• Technical Programs Committee: ongoing research and technical assistance projects; scooter research; and proposed research and technical assistance projects for fiscal year 2002.

• Planning and Budget Committee: budget spending plan for fiscal year 2001; fiscal year 2002 budget; fiscal year 2003; and out-of-town meetings.

• Executive Committee: Executive Director's report; and introducing new Federal board members.

Closed Meeting

• Committee of the Whole Report on the Americans with Disabilities Act/Architectural Barriers Act Final Rule.

• Ad Hoc Committee on Passenger Vessels.

All meetings are accessible to persons with disabilities. Sign language interpreters and an assistive listening system are available at all meetings. Persons attending Board meetings are requested to refrain from using perfume, cologne, and other fragrances for the comfort of other participants.

Lawrence W. Roffee,
Executive Director.

[FR Doc. 01-21540 Filed 8-24-01; 8:45 am]

BILLING CODE 8150-01-P